DEPARTMENT OF EDUCATION

[CFDA No. 84.330B]

Advanced Placement (AP) Test Fee Program

AGENCY: Office of Elementary and Secondary Education (OESE), Department of Education.

ACTION: Notice reopening the AP Test Fee fiscal year (FY) 2009 competition.

SUMMARY: On October 31, 2008, we published in the Federal Register (73 FR 64928) a notice inviting applications for the AP Test Fee FY 2009 competition. That notice established a December 15, 2008 deadline date for eligible applicants to apply for funding under this program.

In order to afford as many eligible applicants as possible an opportunity to receive funding under this program, we are reopening the AP Test Fee FY 2009 competition to eligible applicants that did not apply for funds by the December 15, 2008 deadline. An eligible applicant that submitted its application by the December 15, 2008 deadline does not need to re-submit its application. All information in the October 31, 2008 notice remains the same for this notice reopening the competition, except for the following updates to DATES.

Dates:

Applications Available: January 8, 2009.

Deadline for Transmittal of Applications: January 15, 2009.

Note: Applications for grants under this program must be submitted electronically using the Governmentwide Grants.gov Apply site at http://www.grants.gov. For information about how to submit your application electronically, please refer to Electronic Submission of Applications in the October 31, 2008 notice (73 FR 64929-64930). We encourage eligible applicants to submit their applications as soon as possible to avoid any problems with filing electronic applications on the last day.

Deadline for Intergovernmental Review: March 16, 2009.

FOR FURTHER INFORMATION CONTACT: Francisco Ramirez, U.S. Department of Education, 400 Maryland Avenue, SW., room 3E224, Washington, DC 20202-6200. Telephone: (202) 260-1541 or by e-mail: Francisco.Ramirez@ed.gov.

If you use a telecommunications device for the deaf (TDD), you may call the Federal Relay Service (FRS) at 1-800-877-8339. Individuals with disabilities may obtain this notice in an accessible format (e.g., braille, large print, audiotape, or computer diskette) on request to the contact person listed in this section.

Electronic Access to This Document: You may view this document, as well as other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 6531-6537.

Dated: January 5, 2009.
Kerri L. Briggs,
Assistant Secretary for Elementary and Secondary Education.

[FR Doc. E9-130 Filed 1-7-09; 8:45 am]

BILLING CODE 4000-01-P